DEPARTMENT OF THE INTERIOR

Bureau of Land Management

[OR-027-1220-DG; G 2-0019]

Steens Mountain Advisory Council; Meetings

AGENCY: Bureau of Land Management (BLM), Burns District, Interior.

ACTION: Meetings notice for the Steens Mountain Advisory Council.

SUMMARY: The Steens Mountain Advisory Council (SMAC) will meet at the Bureau of Land Management (BLM), Burns District Office, 28910 Hwy 20 West, Hines, Oregon 97738, on December 17 and 18, 2001; January 24 and 25, 2002; February 28 and March 1, 2002; April 4 and 5, 2002; June 13 and 14, 2002; October 21 and 22, 2002; and December 2 and 3, 2002; and will meet in Frenchglen, Oregon 97736 on August 15 and 16, 2002. All meeting sessions will begin the first day at 8 a.m., local time, and will end at 5 p.m., local time. The second day of each session will begin at 8 a.m., local time, and will end at approximately 3 p.m., local time. The April 4 and 5, 2002; June 13 and 14, 2002; and August 15 and 16, 2002, meeting sessions will consist of meetings on April 4, June 13, and August 15, followed by tours of the Steens Mountain Cooperative Management and Protection Area (CMPA) on April 5, June 14, and August 16, 2002, weather dependent. Topics to be discussed by the SMAC at the December 17 and 18, 2001, meeting include selection of a chairperson; facilitation needs; Subbasins, Analysis of the Management Situation, Interim Management Policy, and Special Recreation Permit Policy review; Federal Advisory Committee Act; cooperative agreements/incentives; winter recreation; signs; and other matters as may reasonably come before the SMAC. Future meetings will cover categories such as education; transportation; recreation/public use; special designated areas; cultural resources; watersheds; projects; wildlife; partnerships/programs; volunteer-based information; adaptive management; planning process; science committee/consultants; and socioeconomics. All meetings and tours are open to the public in their entirety. Information to be distributed to the SMAC is requested 10 days prior to the start of each SMAC meeting. Public comment is scheduled for 11 a.m. to 11:30 a.m., local time, the first day of each meeting session. The amount of time scheduled for public presentations and meeting times may be extended when the authorized representative considers it necessary to accommodate all who seek to be heard regarding matters on the agenda.

The SMAC was appointed by the Secretary of the Interior on August 14, 2001, pursuant to the Steens Mountain Cooperative Management and Protection Act of 2000 (Act). The SMAC's purpose is to provide representative counsel and advice to the BLM regarding (1) new and unique approaches to management of the land within the bounds of the Steens Mountain CMPA, (2) cooperative programs and incentives for landscape management that meet human needs, maintain and improve the ecological and economic integrity of the area, and (3) preparation and implementation of a management plan for the Steens CMPA.

Under the Federal Advisory Committee Act management regulations (41 CFR 102-3.15(b)), in exceptional circumstances an agency may give less than 15 days notice of committee meeting notices published in the Federal Register. In this case, this notice is being published less than 15 days prior to the meeting due to the urgent need to meet legislative deadlines to complete the Steens CMPA management plan and to avoid additional delays.

FOR FURTHER INFORMATION CONTACT: Additional information concerning the SMAC may be obtained from Rhonda Karges, Management Support Specialist, Burns District Office, 28910 Hwy 20 West, Hines, Oregon 97738, (541) 573-4433, or Rhonda_Karges@or.blm.gov or from the following Web site http://www.or.blm.gov/Steens.

Dated: October 25, 2001.
Thomas H. Dyer,
Burns District Manager.

[FR Doc. 01-30278 Filed 12-4-01; 8:45 am]

BILLING CODE 4310-33-P